DEPARTMENT OF JUSTICE

Notice of Lodging of Proposed Consent Decree Under the Clean Air Act

On November 22, 2016, the Department of Justice lodged a proposed Consent Decree with the United States District Court for the Northern District of Indiana in the lawsuit entitled United States and State of Indiana, Michigan Department of Environmental Quality and State of Illinois v. United States Steel Corporation, Civil Action No. 2:12-cv-304.

The proposed Consent Decree puts an end to litigation and resolves allegations in the Clean Air Act Complaint filed on August 1, 2012, by the United States on behalf of the U.S. Environmental Protection Agency and by Co-Plaintiffs the State of Indiana, the Michigan Department of Environmental Quality and the State of Illinois, against Defendant U.S. Steel Corporation (U.S. Steel). Under the proposed Decree, U.S. Steel agrees to undertake measures to reduce pollution and improve environmental compliance at its three Midwest iron and steel manufacturing plants in Gary, Indiana; Ecorse, Michigan; and Granite City, Illinois. U.S. Steel also agrees to pay a $2.2 million civil penalty; perform seven supplemental environmental projects, valued at $1.9 million, in the communities affected by U.S. Steel's pollution; and conduct an environmentally beneficial project, valued at $800,000, at two of its affected plants.

The publication of this notice opens a period for public comment on the proposed Consent Decree. Comments should be addressed to the Assistant Attorney General, Environment and Natural Resources Division, and should refer to United States et al v. United States Steel Corporation, D.J. Ref. No. 90-5-2-1-06476/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $20.75 (25 cents per page reproduction cost), payable to the United States Treasury.

Randall M. Stone,
Acting Assistant Section Chief, Environmental Enforcement Section, Environment and Natural Resources Division.

[FR Doc. 2016-28599 Filed 11-28-16; 8:45 am]

BILLING CODE 4410-15-P